DEPARTMENT OF COMMERCE

National Oceanic and Atmospheric Administration

[RTID 0648-XE855]

Fisheries of the South Atlantic; South Atlantic Fishery Management Council (SAFMC); Public Meetings

AGENCY: National Marine Fisheries Service (NMFS), National Oceanic and Atmospheric Administration (NOAA), Commerce.

ACTION: Notice of a public meeting.

SUMMARY: The South Atlantic Fishery Management Council's (Council) will hold a meeting of its Citizen Science Operations Advisory Panel (AP) via webinar.

DATES: The Citizen Science Operations Advisory Panel meeting will be held via webinar on Wednesday, May 14, 2025, from 9 a.m. until 4 p.m.

ADDRESSES: The meeting will be held via webinar and is open to the public. Webinar registration information and additional meeting details are available from the Council's website at: https://safmc.net/events/may-2025-citizen-science-operations-ap-meeting/. There will be an opportunity for public comment at the beginning of the meeting.

Council address: South Atlantic Fishery Management Council, 4055 Faber Place Drive, Suite 201, N Charleston, SC 29405.

FOR FURTHER INFORMATION CONTACT: Julia Byrd, Citizen Science Program Manager, SAFMC; phone: (843) 302-8439 or toll free: (866) SAFMC-10; fax: (843) 769-4520; email: julia.byrd@safmc.net.

SUPPLEMENTARY INFORMATION: The Citizen Science Operations AP serves as advisors to the Council's Citizen Science Program. Advisory panel members include representatives from the Council's Citizen Science Advisory Panel Pool, NOAA Fisheries' Southeast Regional Office, NOAA Fisheries' Southeast Fisheries Science Center, and the Council's Science and Statistical Committee. Their responsibilities include developing programmatic recommendations, reviewing policies, providing program direction/multi-partner support, identifying citizen science research needs, and providing general advice.

Agenda items for this meeting include: a Citizen Science Program and Project update; discussion on ways to measure and communicate Program impact; discussion of Program organizational structure; and other business.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: April 16, 2025.
Rey Israel Marquez,
Acting Deputy Director, Office of Sustainable Fisheries, National Marine Fisheries Service.

[FR Doc. 2025-06822 Filed 4-18-25; 8:45 am]

BILLING CODE 3510-22-P